DEPARTMENT OF COMMERCE

Bureau of Industry and Security

Transportation and Related Equipment Technical Advisory Committee; Notice of Open Meeting

The Transportation and Related Equipment Technical Advisory Committee will meet on September 7, 2005, 9:30 a.m., in the Herbert C. Hoover Building, Room 6087B, 14th Street between Pennsylvania and Constitution Avenues, NW., Washington, DC. The Committee advises the Office of the Assistant Secretary for Export Administration with respect to technical questions that affect the level of export controls applicable to transportation and related equipment or technology.

Agenda:

1. Opening remarks and introductions.

2. Review of Bureau issues of significance to TRANSTAC members.

3. Regulatory Overview.

4. Policy issues.

5 Wassenaar proposal status.

6. Jurisdiction working group report.

7. Follow-up on open action items.

8. Focus on proposals for March 6 Wassenaar presentation.

The meeting will be open to the public and a limited number of seats will be available. Reservations are not accepted. To the extent time permits, member of the public may present oral statements to the Committee. Written statements may be submitted at any time before or after the meeting. However, to facilitate distribution of public presentation materials to the Committee members, the Committee suggests that you forward your public presentation materials to Yvette Springer at Yspringer@bis.doc.gov.

For more information, call Ms. Springer on (202) 482-4814.

Dated: August 17, 2005.
Yvette Springer,
Committee Liaison Officer.

[FR Doc. 05-16686 Filed 8-22-05; 8:45 am]

BILLING CODE 3510-JT-M